DEPARTMENT OF AGRICULTURE

Risk Management Agency

Request for Applications (RFA): Research Partnerships for Risk Management Development and Implementation

AGENCY: Federal Crop Insurance Corporation, USDA.

ACTION: Announcement of availability of funds and request for application.

SUMMARY: In accordance with section 522 of the Federal Crop Insurance Act (Act) the Federal Crop Insurance Corporation (FCIC) announces the availability of approximately $2 million for partnership agreements that will fund risk management research and development activities. Priority will be given to those activities addressing the need for risk management tools for producers of Noninsured Crop Disaster Assistance Program (NAP) crops, specialty crops, and underserved commodities. Awards, on a competitive basis, may be for a period of up to two years. Recipients of awards must demonstrate non-financial benefits from a partnership agreement and must agree to substantial involvement of RMA in the project. This announcement lists the information needed to submit an application for these funds.

Closing Date: The deadline for submission for all applications is 5 p.m. CST on August 15, 2002. The agency will not consider applications received after the deadline.

FOR FURTHER INFORMATION: Applicants may download an application package from the Risk Management Agency Website at: http:\\www.rma.usda.gov. Applicants may also request an application package from: David W. Fulk, Risk Management Agency, 6501 Beacon Drive, Stop 0813, Kansas City, Missouri 64133-4676, phone: (816) 926-6343, fax: (816) 926-7343, e-mail: RMARED.Application@rm.fcic.usda.gov.

Applicants are strongly encouraged to submit completed and signed application packages using overnight mail or delivery service to ensure timely receipt by the USDA. The applicable address for such submissions is: RMA/RED Partnership Agreement Program, Risk Management Agency, 6501 Beacon Drive, Stop 0813, Kansas City, Missouri 64133-4676, e-mail: RMARED.Application@rm.fcic.usda.gov.

Completed and signed application packages sent via the U.S. Postal Service must be sent to the following address: RMA/RED Partnership Agreement Program, c/o David W. Fulk, USDA, Risk Management Agency, 6501 Beacon Drive, Stop 0813, Kansas City, Missouri 64133-4676. Applicants using the U.S. Postal Service should allow for extra security-processing time for mail delivered to government offices.

Paperwork Reduction Act

Under the provisions of the Paperwork Reduction Act of 1995, as amended (44 U.S.C. chapter 25), the collection of information requirements contained in this announcement have been approved under OMB Document Nos. 0348-0043, 0348-0044, and 0348-0046.

The Catalog of Federal Domestic Assistance Number for this program is 10.450.

SUPPLEMENTARY INFORMATION: This announcement consists of six parts:

Part I—General Information

A. Legislative Authority

B. Background

C. Project Objectives

D. Purpose

Part II—Eligibility/Funding

A. Eligible Applicants

B. Project Period

C. Availability of Funds

Part III—Research Program Description

A. Recipient Activities

B. RMA Activities

Part IV—Preparation of an Application

A. Program Application Materials

B. Content of Applications

C. Submission of Applications

D. Acknowledgement of Applications

Part V—Review Process

A. General

B. Evaluation Criteria and Weights

C. Confidentiality

Part VI—Additional Information

A. Access to Panel Review Information

B. Partnership Agreement Awards

C. Confidential Aspects of Proposals and Awards

D. Reporting Document

E. Audit Requirements

F. Prohibitions and Requirements with Regard to Lobbying

Part I—General Information

A. Legislative Authority

This program is authorized under section 522(d) and Section 506(h) of the Federal Crop Insurance Act (Act), as amended.

B. Background

RMA is committed to meeting the risk management needs and improving or developing risk management tools for the nation's farmers and ranchers. It does this by offering Federal crop insurance and other risk management products through a network of private-sector entities, by overseeing the creation of new products, by seeking enhancements in existing products and by ensuring the integrity of crop insurance programs.

RMA's research and contracting mission was strengthened significantly when the Act was amended in June of 2000. Section 522(d) of the Act authorizes RMA to enter into partnerships with public and private organizations for the purpose of increasing the availability of loss mitigation, financial, and other risk management tools for producers with a priority given to risk management tools for producers of NAP crops, specialty crops, and underserved agricultural commodities.

C. Project Objectives

The objectives of the partnerships as defined in section 522(d)(3)(A) through (E) and (G) of the Act are:

• To enhance the notice and timeliness of notice of weather conditions that could negatively affect crop yields, quality, and final product use in order to allow producers to take preventive actions to increase product profitability and marketability and to reduce the possibility of crop insurance claims;

• To develop a multifaceted approach to pest management and fertilization to decrease inputs, decrease environmental exposure, and to increase application efficiency;

• To develop or improve techniques for planning, breeding, planting, growing, maintaining, harvesting, storing, shipping, and marketing that will address quality and quantity production challenges associated with year-to-year and regional variations;

• To clarify labor requirements and assist producers in complying with requirements to better meet the physically intense and time-compressed planting, tending, and harvesting requirements associated with the production of specialty crops and underserved agricultural commodities;

• To provide assistance to State foresters, or equivalent officials, for the prescribed use of burning on private forest land for the prevention, control, and suppression of fire;

• To develop other risk management tools to further increase economic and production stability; and

D. Purpose

The purpose of this program is to fund partnership agreements that assist producers, minimize their production risks, maximize their potential income, and improve and/or develop risk management tools for the nation's producers. To aid in meeting these goals each partnership agreement awarded through this program will provide the recipient with funds, guidance, and the substantial involvement of RMA to carry out these risk management initiatives.

Part II—Eligibility/Funding

A. Eligible Applicants

Proposals are invited from qualified public and private entities. Eligible applicants include all colleges and universities, Federal, State, and local agencies, nonprofit and for-profit private organizations or corporations, and other entities. Individuals are not eligible applicants. Although an applicant may be eligible to compete for an award based on its status as an eligible entity, other factors may exclude an applicant from receiving Federal assistance under this program (e.g. debarment and suspension, a determination of non-performance based on the information submitted). Applicants must be able to demonstrate they will receive non-financial benefits as a result of the partnership agreement. Non-financial benefits must accrue to the applicant and must include more than the ability to provide employment income to the applicant or for the applicant's employees or the community. The applicant must demonstrate that performance under the partnership agreement will further the specific mission of the applicant (such as providing research or activities necessary for graduate or other students to complete their educational programs).

B. Project Period

Each project will be funded for a period of up to two years for the activities described in this announcement. Projects can also be in two parts with the first part including the research and feasibility studies and the second part including the development of the risk management tool. If the development of the tool is determined not to be feasible, the partnership may be cancelled after completion of the first part.

C. Availability of Funds

Approximately $2,000,000 is available in FY2002 to fund partnership agreements. It is expected that the awards will be made on or about September 1, 2002 [30 days after application deadline].

Part III—Research Program Description

In conducting activities to achieve the purpose of this proposed research and development of risk management tools, the recipient will be responsible for the activities listed under paragraph A of this part. RMA will be responsible for the activities listed under paragraph B.

A. Recipient Activities

The applicant will be required to perform the following activities:

1. Develop a clear, concise research and development project plan. The background, purpose, key project personnel, statement of work, deliverables and proposed funding must be thoroughly defined and described. The project plan must clearly address one or more of the project objectives detailed in Part I section C. Project Objectives. The project plan must demonstrate the non-financial benefits of the recipient and RMA and define the substantial involvement of the RMA.

2. Coordinate and manage the timely completion of the approved research and development activities.

3. Prepare a monthly summary report of project activities.

4. Prepare a final written research report if applicable, and present the report to RMA.

5. Prepare the proposed risk management tool and present the tool to RMA. If acceptable to RMA, the recipient may be required to make a presentation to the Board of Directors.

6. Prepare educational curriculum and material for producers to enable them to utilize the risk management tools developed under the partnership agreement and be included in the delivery of the education to required producers.

B. RMA Activities

1. Collaborate on the research plan;

2. RMA will advise the recipient on the materials available over the internet and through the RMA website (http://www.rma.usda.gov) and be involved in the gathering of any additional information that may be required;.

3. RMA will work with the recipient in all phases of the research and development of the risk management tool, and the educational efforts to enable producers to utilize the risk management tool; and

4. Collaborate with the recipient by developing all materials associated with the research and development program as it relates to publication or presentation of the results and the risk management tools to the public, any producer groups, RMA, and the Board of Directors.

C. Other Activities

In addition to the specific activities listed above, the applicant may suggest other activities that would contribute directly to the purpose of this program. For any additional activity suggested, the applicant should identify specific ways in which RMA could or should have substantial involvement in that activity.

Part IV—Preparation of an Application

A. Program Application Materials

Applicants may download an application package from the Risk Management Agency website at: http://www.rma.usda.gov. Applicants may also request an application package from: David W. Fulk, USDA, RMA/ RED, 6501 Beacon Drive, Stop 0813, Kansas City, Missouri 64133-4676, phone: (816) 926-6343, fax: (816) 926-7343, e-mail: MARED_Application@rm.fcic.usda.gov.

B. Content of Applications

A complete and valid application package must include the following:

1. A completed and signed OMB Standard Form 424, “Application for Federal Assistance”.

2. A completed and signed OMB Standard Form 424-A, “Budget Information—Non-construction Programs.” Indirect cost for projects submitted in response to this solicitation are limited to 10 percent of the total direct cost of the agreement. Separate funding should be proposed for research and development of the risk management tools.

3. A written narrative (limited to 10 single-sided pages) that describes the proposed project and its applicability to the program objectives in Part I. C. of this RFA. The submission should include both the research and development aspects of the risk management tools, including the ability to separate research and development aspects, if applicable, to permit separate funding. The submission should also provide reviewers with sufficient information to effectively evaluate the application under the criteria contained in Part V.

4. An appendix containing any attachments that may support information in the narrative (Optional)

5. A statement of the non-financial benefits of any partnership agreement to the recipient and RMA.

6. A completed and signed OMB standard Form LLL, “Disclosure of Lobbying Activities.”

C. Submission of Applications

1. An original and two copies of the completed and signed application must be submitted in one package at the time of initial submission.

2. All applications must be submitted by the deadline. Applications that do not meet all of the requirements in this announcement are considered as incomplete applications. Late or incomplete applications will not be considered in this competition and will be returned to the applicant.

3. Applications submitted through express, overnight mail or another delivery service will be considered as meeting the announced deadline if they are received in the mailroom at the address stated above for express, overnight mail or another delivery service on or before the deadline. Applicants are cautioned that express, overnight mail or other delivery services do not always deliver as agreed. Applicants should take this into account because failure of such delivery services will not extend the deadline. The address must appear on the envelope or package containing the application with the note “Attention: RMA/RED Partnership Application”.

Mailed applications will be considered meeting the announced deadline if they are received on or before the deadline in the mailroom at the address stated above for mailed applications. Applicants are responsible for mailing applications well in advance, to ensure that applications are received on or before the deadline time and date. Applicants using the U.S. Postal Service should allow for sufficient time for delivery. RMA cannot accommodate transmissions of applications by facsimile or through other electronic media. Therefore, applications transmitted electronically will not be accepted regardless of the date or time of submission or the time of receipt.

D. Acknowledgement of Applications

Receipt of applications will be acknowledged by e-mail, whenever possible. Therefore, applicants are encouraged to provide e-mail addresses in their applications. If an e-mail address is not indicated on an application, receipt will be acknowledged by letter. When received by RMA, applications will be assigned an identification number. This number will be communicated to applicants in the acknowledgement of receipt of applications. An application identification number should be referenced in all correspondence regarding the application. If the applicant does not receive an acknowledgement within 15 days of the submission deadline, the applicant should contact David Fulk at (816) 926-6343.

Part V—Review Process

A. General

Each application will be evaluated using a three-part process. First, each application will be screened by RMA personnel to ensure that it meets the administrative requirements, set forth in this announcement.

Second, each application will be evaluated by RMA and/or USDA personnel to determine if the proposal meets the objectives established in Part I. C. of this RFA. Section 522(d) requires that partnership agreement priority be given for projects that reach producers of (a) NAP crops; (b) specialty crops, and (c) underserved agricultural commodities. Third, a review panel will consider the merits of all applications that pass the final two parts of the review process. The panel will be comprised of at least three representatives from USDA, other federal agencies, and others representing public and private organizations, as needed. The narrative and any appendixes provided by each applicant will be used by the review panel to evaluate the merits of the proposed research and development project. The panel will examine and rank all applications and award merit evaluation points based on the “Evaluation Criteria and Weights” contained in this RFA.

B. Evaluation Criteria and Weights

Applications will be evaluated according to the following criteria:

1. Research and Development Objectives—Maximum 30 points

The proposal must clearly define a research and development program designed to meet the objectives defined in Part I. C. of this RFA. The proposal that addresses the needs of producers of; (a) NAP crops; (b) specialty crops; or (c) underserved commodities will receive higher rankings.

The application ranking and scoring for this criterion are:

Numbering and Scoring

Highest—30 points

2nd Highest—24 points

3rd Highest—18 points

4th Highest—12 points

5th Highest—6 points

2. Indication of RMA Involvement and Non-financial Benefits—Maximum 10 points

The proposal clearly indicates areas of substantial involvement by RMA in both the research and development of the risk management tool, and the educational efforts to encourage producers to utilize the risk management tool and the proposal clearly indicates benefits derived from the partnership that extend beyond the financial benefits or funding of the proposal. Examples of non-financial benefits would be the benefits derived by an educational institution by providing research and development opportunities to students and enhancing the community involvement of the institution.

Proposals that provide a more balanced involvement of both the recipient and RMA will receive higher rankings.

The application ranking and scoring for this criterion are:

Numbering and Scoring

Highest—10 points

2nd Highest—8 points

3rd Highest—6 points

4th Highest—4 points

5th Highest—2 points

3. Research and Development Approach and Methodology—Maximum 40 points

The proposal must clearly demonstrate a sound methodology and an innovative approach to the development project. The proposal must clearly and concisely detail the research to be done, the risk management tool that will develop, the educational curriculum, materials, and delivery system to enable producers to utilize the risk management tool. Proposals that are to the most clear, concise, and complete will receive the higher rankings.

The application ranking and scoring for this criterion are:

Numbering and Scoring

Highest—40 points

2nd Highest—32 points

3rd Highest—24 points

4th Highest—16 points

5th Highest—8 points

4. Management—Maximum 20 points

The proposal clearly demonstrates the applicants” ability and resources to coordinate and manage the proposed research and development project. The proposal demonstrates the research approach is cost effective and maximizes the use of the funding. If the applicant has been the recipient of other Federal or other government grants, cooperative agreements, contracts or partnerships, the applicant must also detail that they have consistently complied with financial and program reporting and audit requirements. Applicants that will employ, or have access to, personnel who have experience in risk management and the development of risk management tools will receive higher rankings.

The application ranking and scoring for this criterion are:

Numbering and Scoring

Highest—20 points

2nd Highest—16 points

3rd Highest—12 points

4th Highest—8 points

5th Highest—4 points

C. Confidentiality

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

Part VI—Additional Information

A. Access to Panel Review Information

Upon written request, a copy of rating forms, not including the identity of reviewers, will be sent to the applicant after the review and awards process has been completed.

B. Notification of Partnership Agreement Awards

Following approval of the applications selected for funding, notice of project approval and authority to draw down funds will be made to the selected applicants in writing. Within the limit of funds available for such purpose, the awarding official of RMA shall enter into partnership agreements with those applicants whose applications are judged to be most meritorious under the procedures set forth in this announcement. The partnership agreement will provide the amount of Federal funds for use in the project period, the responsibilities and benefits of the recipient and RMA, the terms and conditions of the award, and the time period for the project.

The effective date of the partnership agreement shall be the date the agreement is executed by both parties. All funds provided to the applicant by FCIC must be expended solely for the purpose for which funds are obligated in accordance with the approved application and budget, the regulations, the terms and conditions of the award, and the applicability of Federal cost principles. No commitment of Federal assistance beyond the project period is made or implied, as a result of any award made pursuant to this announcement.

C. Confidential Aspects of Proposals and Awards

When an application results in a partnership agreement, it becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application. The original copy of a proposal that does not result in an award will be retained by RMA for a period of one year. Other copies will be destroyed. Such a proposal will be released only with the express written consent of the applicant or to the extent required by law. A proposal may be withdrawn at any time prior to award.

D. Reporting Document

Applicants awarded the partnership agreements will be required to submit semi-annual progress and financial reports (SF-269) throughout the project period, as well as a final program and financial report not later than 90 days after the end of the project period.

E. Audit Requirements

Applicants awarded the partnership agreements are subject to audit.

F. Prohibitions and Requirements With Regard to Lobbying

Section 1352 of Public Law 101-121, enacted on October 23, 1989, imposes prohibitions and requirements for disclosure and certification related to lobbying on recipients of Federal contracts, grants, cooperative agreements, and loans. It provides exemptions for Indian Tribes and tribal organizations. Current and prospective recipients, and any subcontractors, are prohibited from using Federal funds, other than profits from a Federal contract, for lobbying Congress or any Federal agency in connection with the award of a contract, grant, cooperative agreement, or loan. In addition, for each award action in excess of $100,000 ($150,000 for loans) the law requires recipients and any subcontractors (1) to certify that they have neither used nor will use any appropriated funds for payments of lobbyists; (2) to disclose the name, address, payment details, and purpose of any agreements with lobbyists whom recipients of their subcontractors will pay with profit or other nonappropriated funds on or after December 22, 1989; and (3) to file quarterly up-dates about the use of lobbyists if material changes occur in their use. The law establishes civil penalties for non-compliance. A copy of the certification and disclosure forms must be submitted with the application and are available from David Fulk at the above stated address and telephone number.

Signed in Washington, DC, on June 26, 2002.
Ross J. Davidson, Jr.,
Manager, Federal Crop Insurance Corporation.

[FR Doc. 02-16502 Filed 6-28-02; 8:45 am]

BILLING CODE 3410-08-P